DEPARTMENT OF VETERANS AFFAIRS

Poverty Threshold

AGENCY: Department of Veterans Affairs.

ACTION: Notice.

SUMMARY: The Department of Veterans Affairs (VA) hereby gives notice that VA will not publish the annual weighted average poverty threshold figures in the Federal Register, as previously announced. Instead, interested parties may obtain that information directly from the U.S. Census Bureau's Web site.

FOR FURTHER INFORMATION CONTACT: Bill Russo, Chief, Regulations Staff, Compensation and Pension Service, Regulations Staff, Veterans Benefits Administration, 810 Vermont Avenue, NW., Washington, DC 20420, telephone (202) 273-7210.

SUPPLEMENTARY INFORMATION: VA published a final rule amending 38 CFR 4.16(a) in the Federal Register of August 3, 1990, 55 FR 31,579. The amendment provided that marginal employment generally shall be deemed to exist when a veteran's earned annual income does not exceed the amount established by the U.S. Census Bureau as the poverty threshold for one person. The provisions of 38 CFR 4.16(a) use the poverty threshold as a standard in defining marginal employment when considering total disability ratings for compensation based on unemployability of an individual. We stated we would publish annual poverty threshold figures as established by the U.S. Census Bureau. VA does not intend to continue that function because those poverty threshold figures are now available to the public directly from the U.S. Census Bureau's Web site at http://www.census.gov/hhes/www/poverty/threshld.html.

Approved: July 24, 2006.
Gordon H. Mansfield,
Deputy Secretary of Veterans Affairs.

[FR Doc. E6-12257 Filed 7-31-06; 8:45 am]

BILLING CODE 8320-01-P